DEPARTMENT OF TRANSPORTATION

Federal Railroad Administration

[Docket Number FRA-2009-0111]

Notice of Scheduling of Public Hearing; Association of American Railroads

In a notice published January 4, 2010, the Federal Railroad Administration (FRA) announced that the Association of American Railroads (AAR) had petitioned FRA for a waiver of compliance from certain requirements of Title 49 of the Code of Federal Regulations (CFR) parts 234 and 236, and that a public hearing to discuss the issues presented by AAR's petition had been scheduled for February 10, 2010, in Washington, DC. Due to inclement weather in the Washington, DC area on the scheduled hearing date and the resulting temporary closure of Federal Government offices in the Washington, DC area for most of that week, FRA, by notice to all known interested parties, postponed the hearing until a later date.

This notice announces that the public hearing originally scheduled for February 10, 2010, is now rescheduled for Wednesday, April 7, 2010, beginning at 1 p.m. Accordingly, FRA invites all interested persons to participate in the public hearing to address issues presented by AAR's waiver request.

As explained in FRA's January 4, 2010, notice, AAR seeks a waiver, on behalf of its member railroads, from the monthly inspection and test requirements for signal systems set forth in 49 CFR 234.249, 234.251, 234.253, 234.255, 234.257, 234.261, 236.382, and 236.576. The docket number assigned to AAR's petition is Docket Number FRA-2009-0111. A copy of AAR's full petition is available for review online at http://www.regulations.gov.

Dates: (1) Public hearing: A public hearing will be held on April 7, 2010, beginning at 1 p.m. in Washington, DC.

(2) Comments: Interested parties may submit comments relevant to this waiver request and/or issues discussed at the hearing to the address noted below. Such written material should be submitted by May 7, 2010. Comments submitted after that date will be considered to the extent possible.

Addresses: (1) Public Hearing: The public hearing will be held at the Washington Marriott, 1221 22nd Street, NW., Washington, DC 20037.

(2) Attendance: Any persons wishing to make a statement at the hearing should notify FRA's Docket Clerk, Ms. Michelle Silva, by telephone, e-mail, or in writing, at least 5 business days before the date of the hearing. Ms. Silva's contact information is as follows: FRA, Office of Chief Counsel, Mail Stop 10, 1200 New Jersey Avenue, SE., Washington, DC 20590; telephone 202-493-6030; e-mail michelle.silva@dot.gov. For information on facilities or services for persons with disabilities or to request special assistance at the meeting, please contact Ms. Silva by telephone or e-mail as soon as possible.

(3) Comments: Anyone wishing to file a comment related to this waiver petition or issues raised at the hearing should refer to Docket Number FRA-2009-0111. You may submit your comments and related material by any of the following methods:

• Internet: http://www.regulations.gov. Follow the online instructions for submitting comments.

• Fax: 202-493-2251.

• Mail: Docket Operations Facility, U.S. Department of Transportation, 1200 New Jersey Avenue, SE., W12-140, Washington, DC 20590.

• Hand Delivery: Docket Operations Facility, U.S. Department of Transportation, 1200 New Jersey Avenue, SE., Room W12-140, Washington, DC 20590, between 9 a.m. and 5 p.m., Monday through Friday, except Federal Holidays.

All written communications submitted in response to this notice will be available for examination at the above-facility during regular business hours (9 a.m. to 5 p.m.), Monday through Friday, except Federal Holidays. All documents in the public docket are also available for inspection and download on the internet at the docket facility's Web site at http://www.regulations.gov.

Anyone is able to search the electronic form of any written communications and comments received into any of our dockets by the name of the individual submitting the comment (or signing the comment, if submitted on behalf of an association, business, labor union, etc.) You may review DOT's complete Privacy Act Statement in the Federal Register published on April 11, 2000 (Volume 65, Number 70; Pages 19477-78).

Issued in Washington, DC on March 8, 2010.
Grady C. Cothen, Jr.,
Deputy Associate Administrator for Safety Standards and Program Development.

[FR Doc. 2010-5468 Filed 3-11-10; 8:45 am]

BILLING CODE 4910-06-P